DEPARTMENT OF COMMERCE

Bureau of the Census

Census Scientific Advisory Committee Public Meeting

AGENCY: Bureau of the Census, Department of Commerce.

ACTION: Notice of public meeting.

SUMMARY: The Bureau of the Census (Census Bureau) is giving notice of a meeting of the Census Scientific Advisory Committee (CSAC). The Committee will address policy, research, and technical issues relating to a full range of Census Bureau programs and activities, including communications, decennial, demographic, economic, field operations, geographic, information technology, and statistics. The CSAC will meet in a plenary session on March 28-29, 2019. Last minute changes to the schedule are possible, which could prevent giving advance public notice of schedule adjustments. Please visit the Census Advisory Committees website for the most current meeting agenda at: https://www.census.gov/about/cac/sac.html. The meeting will be available via webcast at: https://www.census.gov/newsroom/census-live.html. Topics of discussion will include the following items:

• 2020 Census Program Update

• 2018 End-to-End Test Update

• 2020 Census Data Products Plan

• Current Population Survey Annual Social and Economic Supplement

DATES: March 28-29, 2019. On Thursday, March 28, the meeting will begin at 8:30 a.m. and end at approximately 5:00 p.m. EDT. On Friday, March 29, the meeting will begin at 8:30 a.m. and end at approximately 2:00 p.m.

ADDRESSES: The meeting will be held at the U.S. Census Bureau Auditorium, 4600 Silver Hill Road, Suitland, Maryland 20746.

FOR FURTHER INFORMATION CONTACT: Tara Dunlop Jackson, Branch Chief for Advisory Committees Management Branch, Office of Program, Performance and Stakeholder Integrations, census.scientific.advisory.committee@census.gov, Department of Commerce, U.S. Census Bureau, Room 8H177, 4600 Silver Hill Road, Washington, DC 20233, telephone 301-763-5222. For TTY callers, please use the Federal Relay Service 1-800-877-8339.

SUPPLEMENTARY INFORMATION: The members of the CSAC are appointed by the Director, Census Bureau. The Committee provides scientific and technical expertise, as appropriate, to address Census Bureau program needs and objectives. The Committee has been established in accordance with the Federal Advisory Committee Act (Title 5, United States Code, Appendix 2, Section 10).

All meetings are open to the public. A brief period will be set aside at the meeting for public comment on March 29. However, individuals with extensive questions or statements must submit them in writing to: census.scientific.advisory.committee@census.gov (subject line “March 2019 CSAC Meeting Public Comment”), or by letter submission to Tara Dunlop Jackson, Committee Liaison Officer, Department of Commerce, U.S. Census Bureau, Room 8H177, 4600 Silver Hill Road, Washington, DC 20233.

If you plan to attend the meeting, please register by Monday, March 18, 2019. You may access the online registration from the following link: https://csacspringmeeting2019.eventbrite.com.

This meeting is physically accessible to people with disabilities. Requests for sign language interpretation or other auxiliary aids should also be directed to the Committee Liaison Officer as soon as known, and preferably two weeks prior to the meeting.

Please call 301-763-9906 upon arrival at the Census Bureau on the day of the meeting. A photo ID must be presented in order to receive your visitor's badge. Visitors are not allowed beyond the first floor.

Dated: February 27, 2019.
Steven D. Dillingham,
Director, Bureau of the Census.

[FR Doc. 2019-04013 Filed 3-5-19; 8:45 am]

BILLING CODE 3510-07-P